DEPARTMENT OF THE TREASURY

Submission for OMB Review; Comment Request

November 10, 2011.

The Department of the Treasury will submit the following public information collection requirement to OMB for review and clearance under the Paperwork Reduction Act of 1995, Public Law 104-13 on or after the publication date of this notice. A copy of the submission may be obtained by calling the Bureau Information Clearance Officer listed. Comments regarding this information collection should be addressed to the OMB reviewer listed and to the Treasury PRA Clearance Officer, Department of the Treasury, 1750 Pennsylvania Avenue NW., Suite 11010, Washington, DC 20220.

DATES: Written comments should be received on or before December 19, 2011 to be assured of consideration.

Office of Financial Education and Financial Access

OMB Number: 1505-XXXX.

Type of Review: New collection.

Title: Assessing Financial Capability Outcomes.

Abstract: Pursuant to the Title XII of the Dodd-Frank Wall Street Reform and Financial Protection Act (Pub. L. 111-203), the Department of the Treasury is implementing an Assessing Financial Capability Outcomes pilot to determine whether the close integration of financial access (access to an account at a financial institution) and financial education delivered in a timely, relevant, and actionable manner, will create significant impact on the financial behaviors and/or outcomes of participants. The information collected will be used for research, to promote the Treasury's understanding of likely outcomes of financial capability interventions.

Respondents: Individuals or households, non-profit organizations, state, tribal or local government entities, businesses or other for-profit entities.

Estimated Total Annual Burden Hours: 4,400.

Treasury Clearance Officer:: Louisa M. Quittman, Director, Community Programs, Office of Financial Education and Financial Access, U.S. Department of the Treasury, 1500 Pennsylvania Avenue NW., Washington, DC 20220. (202) 622-5770.

OMB Reviewer: Shagufta Ahmed, Office of Management and Budget, New Executive Office Building, Room 10235, Washington, DC 20503; (202) 395-7873.

Robert Dahl,
Treasury PRA Clearance Officer.

[FR Doc. 2011-29686 Filed 11-16-11; 8:45 am]

BILLING CODE 4810-70-P